DEPARTMENT OF ENERGY

Federal Energy Regulatory Commission

18 CFR Part 284

[128 FERC ¶ 61,187; Docket No. RM09-2-000]

Contract Reporting Requirements of Intrastate Natural Gas Companies; Notice Requesting Comments on Proposed Standardized Electronic Information Collection and Extending Time for Comments on Notice of Proposed Rulemaking

August 26, 2009.

AGENCY: Federal Energy Regulatory Commission, Energy.

ACTION: Notice of proposed standardized electronic information collection and request for comments.

SUMMARY: In compliance with the requirements of Section 3506(c)(2)(A) of the Paperwork Reduction Act of 1995, 44 U.S.C. 3506(c)(2)(A) (2006), the Federal Energy Regulatory Commission (FERC or Commission) is soliciting public comment on the proposed standardized electronic information collection to be used by Natural Gas Policy Act (NGPA) section 311 and Hinshaw pipelines for submitting the quarterly transactional reports proposed in the Notice of Proposed Rulemaking, issued on July 16, 2009 and published on July 29, 2009 (74 FR 37658) in this docket. This notice also extends the deadline for comments on the Notice of Proposed Rulemaking, so that all comments will be due on the same date.

DATES: Comments on the proposed standardized electronic information collection are due November 2, 2009.

Comments on the Notice of Proposed Rulemaking published on July 29, 2009 (74 FR 37658) are now also due November 2, 2009.

ADDRESSES: Comments may be filed either electronically (eFiled) or in paper format, and should refer to Docket No. RM09-2-000. Documents must be prepared in an acceptable filing format and in compliance with Commission submission guidelines at http://www.ferc.gov/help/submission-guide.asp.

Comments may be eFiled. The eFiling option under the Documents & Filings tab on the Commission's Web page (http://www.ferc.gov) directs users to the eFiling Web page. First-time users should follow the eRegister instructions on the eFiling tab on the Web page to establish a user name and password before eFiling. Filers will receive an e-mailed confirmation of their eFiled comments.

Commenters filing electronically should not make a paper filing. Commenters that are not able to file electronically must send an original and 14 paper copies of the filing to: Federal Energy Regulatory Commission, Secretary of the Commission, 888 First Street, NE., Washington, DC 20426.

Parties interested in receiving automatic notification of activity in this docket may do so through eSubscription. The eSubscription option under the Documents & Filings tab on the Commission's Web page directs users to the eSubscription Web page. Users submit the docket numbers of the filings they wish to track and will subsequently receive an e-mail notification each time a filing is made under the submitted docket numbers. First-time users will need to establish a user name and password before eSubscribing.

Filed comments and FERC issuances may be viewed, printed, and downloaded remotely from the Commission's Web site. The eLibrary link found at the top of most of the Commission's Web pages directs users to FERC's eLibrary. From the eLibrary tab on the Web page, choose General Search, and in the Docket Number space provided, enter RM09-2, then click the Submit button at the bottom of the page. For help with any of the Commission's electronic submission or retrieval systems, contact FERC Online Support via e-mail at: ferconlinesupport@ferc.gov, or telephone toll-free: (866) 208-3676 (TTY (202) 502-8659).

FOR FURTHER INFORMATION CONTACT: Michael Miller may be reached by telephone at (202) 502-8415, by fax at (202) 273-0873, and by e-mail at michael.miller@ferc.gov.

SUPPLEMENTARY INFORMATION: 1. On July 16, 2009, the Commission issued a Notice of Proposed Rulemaking (NOPR) ¹ in this docket proposing to revise the contract reporting requirements for (1) intrastate pipelines providing interstate services pursuant to section 311 of the NGPA; ² and (2) Hinshaw pipelines providing interstate services subject to the Commission's NGA section 1(c) jurisdiction pursuant to blanket certificates issued under § 284.224 of the Commission's regulations. Specifically, the NOPR proposed to amend § 284.126(b) of the Commission's regulations to require that NGPA section 311 and Hinshaw pipelines make quarterly reports that contain, for each transportation and storage service provided during the preceding calendar quarter, the following information:

¹ Contract Reporting Requirements of Intrastate Natural Gas Companies, FERC Stats. & Regs. ¶ 32,644 (2009) (NOPR) published in the Federal Register on July 29, 2009 (74 FR 37658).

² 15 U.S.C. 3372.

i. The full legal name, and identification number, of the shipper receiving the service, including whether there is an affiliate relationship between the pipeline and the shipper;

ii. The type of service performed (i.e., firm or interruptible transportation, storage, or other service);

iii. The rate charged under each contract, specifying the rate schedule/name of service and docket where the rates were approved. The report should separately state each rate component set forth in the contract (i.e. reservation, usage, and any other charges);

iv. The primary receipt and delivery points covered by the contract, including the industry common code for each point;

v. The quantity of natural gas the shipper is entitled to transport, store, or deliver under each contract;

vi. The duration of the contract, specifying the beginning and ending month and year of the current agreement;

vii. Total volumes transported, stored, injected, or withdrawn for the shipper; and

viii. Total revenues received from the shipper. The report should separately state revenues received under each rate component.

2. In order to make the proposed quarterly reports more accessible to the public, the NOPR also proposed requiring that the reports be filed in a standardized electronic format to be developed by the Commission staff. In the NOPR, the Commission stated that it was “in the process of developing a standardized electronic format for making the reports proposed in this NOPR. Once that process is complete, the Commission will make the standardized format available for public comment.” ³

³ NOPR, FERC Stats. & Regs. ¶ 32,644 at P 29.

3. By this notice, the Commission is requesting comment on the proposed quarterly reports. Attached to this Notice as an Appendix are:

i. A table that shows all the data elements (fields) that would be collected each quarter for each shipper that a filing entity provides with transportation or storage service. The table is not an example of the collection instrument or how the Commission intends to collect the information.

ii. A Data Dictionary and associated units of measure that defines what each element means and its characteristics (e.g. text field with 10 characters, e-mail address, numerical field, and relationship to other elements).

iii. Instructions to assist filers to report the data each quarter.

4. The Commission seeks comment on its proposal to adopt for reporting purposes an XML Schema.⁴ Under the XML approach, filing entities submitting their quarterly data would be required to submit an XML filing package ⁵ that conforms to the XML Schema developed and maintained by FERC. Filers would be allowed to submit their XML filing packages using the existing eFiling portal. Once submitted, the XML filing package would undergo quality checks to see if it conforms to the XML Schema. Filing entities would receive an e-mail confirmation if the filing is successful or needs to be corrected. This approach is similar to that being developed for electronic tariffs in Docket No. RM01-5-000. See http://www.ferc.gov/docs-filing/etariff.asp.⁶

⁴ The XML schema is a method by which the filing entities can communicate information to the Commission. The schema proscribes the metadata elements and the textual information that must be included in the filing package. The data elements included in the XML filing package are required to properly identify the nature of the FERC-549D, organize the FERC-549D database, and maintain the proper relationship of elements in relation to other elements.

⁵ Filing entities would develop the XML filing package in accordance with the Commission's XML Schema. Open source and fee-based software is available to convert data in a spreadsheet and other documents into the XML filing package. The latest versions of Text Editors and Word Processing application may also have the capability to create the XML filing package.

⁶ See also Common FAQs about XML at http://xml.silmaril.ie/.

5. In addition, the Commission seeks comment on whether an ASP.NET Web-based form is more appropriate. Under the ASP.NET approach, the Commission would create a Web-based form that would be accessible to filers on the FERC Web site. Filing entities would not use the eFiling portal to submit their data. The Web-based form would be formatted and contain blank fields that filing entities can fill in with data for each shipper it provides with transportation or storage service each quarter. Once submitted, the data would undergo quality checks. Filing entities would receive an e-mail confirmation if the submission is successful or needs to be corrected.

Comments are also invited on the following issues:

1. Problems in measuring data elements collected in the table and data dictionary;

2. Terms and definitions of the elements in the table, data dictionary and instructions;

3. Whether the units of measure are appropriate;

4. Whether the instructions are clear or require modification;

5. The accuracy of the agency's burden estimate of the proposed collection of information;

6. Ways to enhance the quality, utility and clarity of the information to be collected;

7. Ways to minimize respondent information collection burden; and

8. The most effective way for the Commission to present the collected information to the public on the FERC Web site.

6. A paper version of the table with proposed data elements, instructions, and data dictionary, are attached as the Appendix to this Notice, but they are not being printed in the Federal Register. The Appendix is available on the FERC's eLibrary (http://www.ferc.gov/docs-filing/elibrary.asp) by searching Docket No. RM09-2, and through the FERC Public Reference Room. Interested parties may also request paper copies of the table, instructions, and data dictionary by contacting Michael Miller by telephone at (202) 502-8415, by fax at (202) 273-0873, or by e-mail at michael.miller@ferc.gov.

7. Comments on the proposed standardized electronic information collection and related burden estimate, including any related matters or alternative proposals that commenters may wish to discuss, must be submitted by 60 days after publication of this Notice in the Federal Register. The Commission shall also delay the date on which comments on the NOPR are due to the same date, in order to permit parties to include comments on the standardized electronic information collection within their comments on the NOPR.

Burden Statement: The proposed survey targets respondents who directly serve wholesale and retail customers. The Commission estimated in the NOPR that on an annual basis the burden to comply with this proposed rule will be as follows:

| Number of respondents annually | Number of responses per respondent | Average burden hours per response | Total annual burden hours
| (1) | (2) | (3) | (1) × (2) × (3)
FERC-549D | 125 | 4 | 3.5 | 1,750

Because of the various staffing levels that will be involved in preparing the documentation (legal, technical and support) the Commission is using an hourly rate of $150 to estimate the costs for filing and other administrative processes (reviewing instructions, searching data sources, completing and transmitting the collection of information). The estimated total annual cost to respondents is anticipated to be $262,500 [1,750 Total Annual Burden Hours times $150 per hour equals $262,500]. The cost per respondent is $2,100.

8. The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

9. The respondent's cost estimate is based on salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

By direction of the Commission.
Kimberly D. Bose,
Secretary.

Note: The Appendix (table with proposed FERC-549D data elements, instructions, and data dictionary) will not be printed in the Federal Register. The Appendix is available on the FERC's eLibrary (http://www.ferc.gov/docs-filing/elibrary.asp) by searching Docket No. RM09-2-000, and through the FERC Public Reference Room.

[FR Doc. E9-21108 Filed 9-2-09; 8:45 am]

BILLING CODE 6717-01-P